OFFICE OF PERSONNEL MANAGEMENT

Submission for Review: Health Benefits Election Form, OPM 2809, 3206-0141

AGENCY: Office of Personnel Management.

ACTION: 60-Day notice and request for comments.

SUMMARY: Retirement Services, Office of Personnel Management (OPM) offers the general public and other federal agencies the opportunity to comment on the renewal of an expiring information collection request (ICR), without change, Health Benefits Election Form (OPM 2809).

DATES: Comments are encouraged and will be accepted until April 7, 2023.

ADDRESSES: You may submit comments, identified by docket number and title, by the following method:

• Federal Rulemaking Portal: http://www.regulations.gov. Follow the instructions for submitting comments.

All submissions received must include the agency name and docket number for this document. The general policy for comments and other submissions from members of the public is to make these submissions available for public viewing at http://www.regulations.gov as they are received without change, including any personal identifiers or contact information.

FOR FURTHER INFORMATION CONTACT: A copy of this ICR with applicable supporting documentation, may be obtained by contacting the Retirement Services Publications Team, Office of Personnel Management, 1900 E Street NW, Room 3316-L, Washington, DC 20415, Attention: Cyrus S. Benson, or sent via electronic mail to Cyrus.Benson@opm.gov or faxed to (202) 606-0910 or via telephone at (202) 606-4808.

SUPPLEMENTARY INFORMATION: As required by the Paperwork Reduction Act of 1995 (Pub. L. 104-13, 44 U.S.C. chapter 35) as amended by the Clinger-Cohen Act (Pub. L. 104-106), OPM is soliciting comments for this collection (OMB No. 3206-0141). The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

OPM 2809, Health Benefits Election, is used by annuitants and former spouses to elect, cancel, suspend, or change health benefits enrollment during periods other than open season.

Analysis

Agency: Federal Employee Insurance Operations, Office of Personnel Management.

Title: Health Benefits Election Form.

OMB Number: 3206-0141.

Frequency: On occasion.

Affected Public: Individuals or Households.

Number of Respondents: 30,000 (Forms = 20,000; Verbal/Written collection = 10,000).

Estimated Time per Respondent: 30 minutes (Telephone/Mail collection = 10 mins).

Total Burden Hours: 11,667 hours.

U.S. Office of Personnel Management.
Stephen Hickman,
Federal Register Liaison.

[FR Doc. 2023-02480 Filed 2-3-23; 8:45 am]

BILLING CODE 6325-38-P